GENERAL SERVICES ADMINISTRATION

[OMB Control No. 3090-0248]

General Services Administration Acquisition Regulation; Submission for OMB Review; Solicitation Provisions and Contract Clauses, Placement of Orders Clause, and Ordering Information Clause

AGENCY: Office of the Chief Acquisition Officer, GSA.

ACTION: Notice of request for public comments regarding an extension to an existing OMB clearance.

SUMMARY: Under the provisions of the Paperwork Reduction Act of 1995 (44 U.S.C. Chapter 35), the Federal Acquisition Regulation (FAR), the Regulatory Secretariat will be submitting to the Office of Management and Budget (OMB) a request to review and approve an extension of a currently approved information collection requirement concerning Solicitation provisions and contract clauses, placement of orders clauses, and ordering information clause. A request for public comments was published in the Federal Register at 74 FR 8258, February 24, 2009. No comments were received.

Public comments are particularly invited on: Whether this collection of information is necessary; whether it will have practical utility; whether our estimate of the public burden of this collection of information is accurate and based on valid assumptions and methodology; ways to enhance the quality, utility, and clarity of the information to be collected; and ways in which we can minimize the burden of collection of information on those who are to respond, through the use of appropriate technological collection techniques or other forms of information technology.

DATES: Submit comments on or before: June 3, 2009.

ADDRESSES: Submit comments regarding this burden estimate or any other aspect of this collection of information, including suggestions for reducing this burden to: General Services Administration (GSA) Desk Officer, OMB, Room 10236, NEOB, Washington, DC 20503, and send a copy to the Regulatory Secretariat (VPR), 1800 F Street, NW., Room 4041, Washington, DC 20405. Please cite OMB Control No. 3090-0248, Solicitation Provisions and Contract Clauses, Placement of Orders Clause, and Ordering Information Clause in all correspondence.

FOR FURTHER INFORMATION CONTACT: Mr. Warren Blankenship, Procurement Analyst, Contract Policy Division, GSA, telephone (202) 501-1900.

SUPPLEMENTARY INFORMATION:

A. Purpose

The General Services Administration (GSA) has various mission responsibilities related to the acquisition and provision of the Federal Acquisition Service's (FAS's) Stock, Special Order, and Schedules Programs. These mission responsibilities generate requirements that are realized through the solicitation and award of various types of FAS contracts. Individual solicitations and resulting contracts may impose unique information collection and reporting requirements on contractors, not required by regulation, but necessary to evaluate particular program accomplishments and measure success in meeting program objectives. As such, GSAR 516.506, Solicitation provision and clauses, specifically directs contracting officers to insert 552.216-72, Placement of Orders, when the contract authorizes FAS and other activities to issue delivery or task orders and 552.216-73, Ordering Information, directs the Offeror to elect to receive orders placed by FAS by either facsimile transmission or computer-to-computer Electronic Data Interchange (EDI).

B. Annual Reporting Burden

Respondents: 7,143.

Responses per Respondent: 1.

Annual Responses: 7,143.

Hours per Response: .25.

Total Burden Hours: 1,786.

Obtaining Copies of Proposals: Requesters may obtain a copy of the information collection documents from the General Services Administration, Regulatory Secretariat (VPR), 1800 F Street, NW., Room 4041, Washington, DC 20405, telephone (202) 501-4755. Please cite OMB Control No. 3090-0248, Solicitation Provisions and Contract Clauses, Placement of Orders Clause, and Ordering Information Clause in all correspondence.

Dated: April 28, 2009.
Al Matera,
Director, Office of Acquisition Policy.

[FR Doc. E9-10155 Filed 5-1-09; 8:45 am]

BILLING CODE 6820-61-P